DEPARTMENT OF ENERGY

Federal Energy Regulatory Commission

[Project No. 7883-020]

Powerhouse Systems, LLC; Notice Soliciting Scoping Comments

Take notice that the following hydroelectric application has been filed with the Commission and is available for public inspection.

a. Type of Application: Subsequent Minor License.

b. Project No.: P-7883-020.

c. Date Filed: October 2, 2023.

d. Applicant: Powerhouse Systems, LLC (Powerhouse Systems).

e. Names of Project: Weston Dam Project.

f. Location: On the Upper Ammonoosuc River in Coos County, New Hampshire.

g. Filed Pursuant to: Federal Power Act 16 U.S.C. 791(a)-825(r).

h. Applicant Contact: Antonio Zarrella, Relevate Power, LLC, 230 Park Avenue, Suite 307, New York, New York 10169; Phone at (315) 247-0253 or email at tz@relevatepower.com; or Rory Cohan, Relevate Power, LLC, 230 Park Avenue, Suite 307, New York, New York 10169; Phone at (845) 532-6894 or email at rc@relevatepower.com.

i. FERC Contact: Eric Fitzpatrick at (202) 502-8584; or email at eric.fitzpatrick@ferc.gov.

j. Deadline for filing scoping comments: December 27, 2024.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Secretary, Federal Energy Regulatory Commission, 888 First Street NE, Room 1A, Washington, DC 20426. Submissions sent via any other carrier must be addressed to: Secretary, Federal Energy Regulatory Commission, 12225 Wilkins Avenue, Rockville, MD 20852. All filings must clearly identify the following on the first page: Weston Dam Project No. 7883-020.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. The existing Weston Dam Project consists of the following: (1) a 220-foot-long, 15.5-foot-high concrete-covered stone and timber crib dam (Weston Dam) that consists of the following sections: (a) a 120-foot-long concrete cap spillway topped with 4.5-foot-high wooden flashboards with a crest elevation of 867.7 feet National Geodetic Vertical Datum of 1929 (NGVD 29) at the top of the flashboards; (b) a 60-foot-long right abutment section on the northwest side of the spillway with two slide gates; and (c) a 40-foot-long left abutment section on the southeast side of the spillway with a 20-foot-long, 15-foot-wide gatehouse and two slide gates.; (2) an impoundment with a surface area of 30 acres and a storage capacity of 115 acre-feet at an elevation of 867.7 feet NGVD 29; (3) a 10.83-foot-wide, 20-foot-high intake structure that includes a trashrack with 2-inch clear bar spacing; (4) a 36.5-foot-long, 36-foot-wide powerhouse with two Kaplan turbine-generator units; (5) two 0.48 kilovolt (kV) generator leads; (6) three 0.48/34.5-kV transformers; and (7) a 34.5-kV, 300-foot-long transmission line. The Weston Dam Project has a total installed capacity of 540 kilowatts (kW). There are no project recreation facilities.

Pursuant to Article 20 of the current license Powerhouse Systems operates in an instantaneous run-of-river mode such that discharge from the project approximates the instantaneous sum of inflow to the project impoundment. The project has an average annual generation of 2,357 megawatt-hours.

Powerhouse Systems is not proposing any changes to project facilities or operation.

m. A copy of the application can be viewed on the Commission's website at https://www.ferc.gov using the “eLibrary” link. Enter the project's docket number excluding the last three digits in the docket number field to access the document. For assistance, contact FERC Online Support.

You may also register at https://ferconline.ferc.gov/FERCOnline.aspx to be notified via email of new filings and issuances related to this or other pending projects. For assistance, please contact FERC Online Support at FERCOnlineSupport@ferc.gov.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

n. Scoping Process

Pursuant to the National Environmental Policy Act (NEPA), Commission staff intends to prepare either an environmental assessment (EA) or an environmental impact statement (EIS) (collectively referred to as the “NEPA document”) that describes and evaluates the probable effects, including an assessment of the site-specific, if any, of the proposed action and alternatives. The Commission's scoping process will help determine the required level of analysis and satisfy the NEPA scoping requirements, irrespective of whether the Commission issues an EA or an EIS.

At this time, we do not anticipate holding on-site scoping meetings. Instead, we are soliciting written comments and suggestions on the preliminary list of issues and alternatives to be addressed in the NEPA document, as described in scoping document 1 (SD1), issued November 27, 2024.

Copies of the SD1 outlining the proposed project and subject areas to be addressed in the NEPA document were distributed to the parties on the Commission's mailing list and the applicant's distribution list. Copies of SD1 may be viewed on the web at https://www.ferc.gov using the “eLibrary” link (see item m above).

Dated: November 27, 2024.
Debbie-Anne A. Reese,
Secretary.

[FR Doc. 2024-28405 Filed 12-3-24; 8:45 am]

BILLING CODE 6717-01-P